DEPARTMENT OF TRANSPORTATION

Federal Aviation Administration

14 CFR Part 71

Planned Modification of the Houston Class B Airspace Area; TX

AGENCY: Federal Aviation Administration (FAA), DOT.

ACTION: Notice of public meetings.

SUMMARY: This document announces three fact-finding informal airspace meetings to solicit information from airspace users, and others, concerning a plan to modify the Class B airspace area at the George Bush Intercontinental Airport/Houston, TX. The purpose of these meetings is to provide interested parties an opportunity to present views, recommendations, and comments on the plan to modify the Houston, TX, Class B airspace area. All comments received during these meetings will be considered prior to any revision or issuance of a notice of proposed rulemaking.

DATES: Meetings. These informal airspace meetings will be held on Tuesday, August 27, 2002, at 6:00 pm—9:00 pm; Thursday, August 29, 2002, at 6:00 pm—9:00 pm; and Wednesday, September 4, 2002, at 6:00 pm—9:00 p.m.

Comments. Comments must be received on or before October 4, 2002.

ADDRESSES: Meetings. On August 27, 2002, the meeting will be held at Fletcher Aviation, at the William P. Hobby Airport, 9000 Randolph, Houston, TX. The August 29, 2002, meeting will be held at the Terminal Building at the West Houston Airport, 18000 Groschke, Houston, TX. The September 4, 2002, meeting will be held in the Academic room 126 at the North Harris College, 2700 W. Thorne Drive, Houston, TX.

Comments. Send comments on the proposal in triplicate to: Manager, Air Traffic Division, ASW-500, Federal Aviation Administration, Southwest Region Headquarters, 2601 Meacham Blvd., Fort Worth, TX 76137-4298.

FOR FURTHER INFORMATION CONTACT: Caroline Carey, Houston ATCT, George Bush Intercontinental Airport/Houston, 2700 West Terminal Rd., Houston, TX 77032; telephone (281) 209-8603.

SUPPLEMENTARY INFORMATION:

Meeting Procedures

(a) These meetings will be informal in nature and will be conducted by one or more representatives of the FAA Southwest Region. A representative from the FAA will present a formal briefing on the planned Class B airspace area modification. Each participant will be given an opportunity to deliver comments or make a presentation at the meetings. Only comments concerning the proposal to modify the Class B airspace area will be accepted.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present three copies to the presiding officer. There should be additional copies of each handout available for other attendees.

(f) These meetings will not be formally recorded.

Agenda for the Meetings

—Opening Remarks and Presentation of Meeting Procedures.

—Briefing on Background for the Planned Modification of the Class B Airspace Area at the George Bush Intercontinental Airport/Houston, TX.

—Public Presentations and Discussions.

—Closing Comments.

Issued in Washington, DC, on July 15, 2002.
Ellen Crum,
Acting Manager, Airspace and Rules Division.

[FR Doc. 02-18619 Filed 7-23-02; 8:45 am]

BILLING CODE 4910-13-P